DEPARTMENT OF TRANSPORTATION

Federal Transit Administration

FY 2024 Competitive Funding Opportunity: Passenger Ferry Grant Program, Electric or Low-Emitting Ferry Pilot Program, and Ferry Service for Rural Communities Program

AGENCY: Federal Transit Administration (FTA), Department of Transportation (DOT).

ACTION: Notice of funding opportunity (NOFO).

SUMMARY: The Federal Transit Administration (FTA) announces the opportunity to apply for $316 million in competitive grants under the Fiscal Year (FY) 2024 Passenger Ferry Grant Program (Passenger Ferry Program), Electric or Low-Emitting Ferry Pilot Program (Low-No Ferry Program), and Ferry Service for Rural Communities Program (Rural Ferry Program). Of the amount being made available, $51 million is for the Passenger Ferry Program, $49 million for the Low-No Ferry Program, and $216 million is for the Rural Ferry Program. FTA may award additional funding made available to the program prior to the announcement of project selections.

DATES: Complete proposals must be submitted electronically through the GRANTS.GOV “APPLY” function by 11:59 p.m. eastern time June 17, 2024. Prospective applicants should initiate the process by promptly registering on the GRANTS.GOV website to ensure completion of the application process before the submission deadline.

ADDRESSES: Instructions for applying can be found on FTA's website at https://www.transit.dot.gov/howtoapply and in the “FIND” module of GRANTS.GOV. The funding opportunity ID for the Passenger Ferry Program is FTA-2024-007-TPM-PassFerry, the funding opportunity ID for the Low-No Ferry Program is FTA-2024-008-TPM-FERRYPILOT, and the funding opportunity ID for the Rural Ferry Program is FTA-2024-009-TPM-RuralFerry. Mail and fax submissions will not be accepted.

FOR FURTHER INFORMATION CONTACT: FTAFerryPrograms@dot.gov or Vanessa Williams, FTA Office of Program Management, (202) 366-4818, or Sarah Clements, FTA Office of Program Management, (202) 366-3062.

SUPPLEMENTARY INFORMATION:

Summary Overview of Key Information—Passenger Ferry Grant Program (Passenger Ferry Program), Electric or Low-Emitting Ferry Pilot Program (Low-No Ferry Program), and Ferry Service for Rural Communities Program (Rural Ferry Program)
Issuing Agency | Federal Transit Administration, U.S. Department of Transportation.
Program Overview | The Passenger Ferry Program provides funding to improve the condition and quality of existing passenger ferry services, support the establishment of new passenger ferry services, and repair and modernize ferry boats, terminals, and related facilities and equipment.
| The Low-No Ferry Program provides funding for projects that support the purchase of electric or low-emitting ferries and the electrification of or other reduction of emissions from existing ferries.
| The Rural Ferry Program provides funding for capital, operating, and planning expenses for ferry service to rural areas.
Eligible Applicants | Passenger Ferry Program: designated and direct recipients of section 5307 funding and public entities engaged in providing public transportation passenger ferry service in urban areas that are eligible to be direct recipients.
| Low-No Ferry Program: any eligible recipient of section 5307 or section 5311 funding.
| Rural Ferry Program: States and U.S. territories in which eligible service is operated.
Eligible Project Types | Passenger Ferry Program: Capital projects for the purchase, construction, replacement, or rehabilitation of ferries, terminals, related infrastructure and related equipment (including electric or low-emitting ferry vessels and related infrastructure).
| Low-No Ferry Program: Capital projects for the purchase of electric or low-emitting ferry vessels and related infrastructure.
| Rural Ferry Program: Capital, operating or planning projects for rural ferry service.
Funding | Passenger Ferry Program: $51 million. Low-No Ferry Program: $49 million. Rural Ferry Program: $216 million. Total: $316 million.
Deadline | Applications due by 11:59 p.m. eastern time June 17, 2024.
Cost share | The maximum Federal share for capital projects selected under each program generally is 80 percent of the net project cost, with the exceptions described in the NOFO.
| The maximum Federal share for planning projects selected under the Rural Ferry Program is 80 percent. There is no maximum Federal share for operating projects selected under the Rural Ferry Program; however, a maintenance of effort requirement is described in the NOFO.

Table of Contents

A. Program Description

B. Federal Award Information

C. Eligibility Information

D. Application and Submission Information

E. Application Review Information

F. Federal Award Administration Information

G. Federal Awarding Agency Contacts

H. Other Information

A. Program Description

This is a joint Notice of Funding Opportunity (NOFO) and announces the availability of FY 2024 funding for the Passenger Ferry Grant Program (Passenger Ferry Program), Electric or Low-Emitting Ferry Pilot Program (Low-No Ferry Program), and Ferry Service for Rural Communities Program (Rural Ferry Program). All programs can be found under Federal Assistance Listing: 20.532.

Federal public transportation law (49 U.S.C. 5307(h)) authorizes FTA to award grants for passenger ferries through a competitive process. The Passenger Ferry Program provides funding to designated recipients and direct recipients under FTA's Urbanized Area Formula Program, as well as public entities engaged in providing public transportation passenger ferry service in urban areas that are eligible to be direct recipients. Projects funded under the program will improve the condition and quality of existing passenger ferry services, support the establishment of new passenger ferry services, and repair and modernize ferry boats, terminals, and related facilities and equipment.

Section 71102 of the Infrastructure Investment and Jobs Act (also called the “Bipartisan Infrastructure Law” or “BIL”) (Pub. L. 117-58) authorizes FTA to award grants for electric or low-emitting ferries through a competitive process, as described in this notice. The Low-No Ferry Program is available to any eligible designated or direct recipient of FTA's Urbanized Area Formula Program or Formula Grants for Rural Areas funding, including States (including territories and Washington, DC), local governmental authorities, and tribal governments. Grants will be awarded under this program for the purchase of electric or low-emitting ferries, the electrification of or other reduction of emissions from existing ferries, and related charging or other fueling infrastructure (for which the applicants will maintain satisfactory continuing control) to reduce emissions or produce zero onboard emissions under normal operation.

Section 71103 of the BIL authorizes FTA to award grants for the Rural Ferry Program through a competitive process, as described in this notice. The Rural Ferry Program provides funding for capital, operating, and planning expenses to States and territories for ferry service to rural areas. Applicants to this program are required to have operated ferry public transportation service on a regular schedule at any time during the five-year period from March 1, 2015, to March 1, 2020, and operated at least one route segment of more than 50 sailing (nautical) miles between two rural areas.

The Department seeks to fund projects that advance the Departmental priorities of safety, equity, climate and sustainability, workforce development, job quality, and wealth creation as described in the USDOT Strategic Plan, Research, Development and Technology Strategic Plan, and in executive orders.¹

¹ Executive Order 14008, Tackling the Climate Crisis at Home and Abroad (86 FR 7619). Executive Order 13985, Advancing Racial Equity and Support for Underserved Communities Through the Federal Government (86 FR 7009). Executive Order 14025, Worker Organizing and Empowerment (86 FR 22829), and Executive Order 14052, Implementation of the Infrastructure Investment and Jobs Act (86 FR 64335).

B. Federal Award Information

Federal public transportation law (49 U.S.C. 5307(h)) authorizes $30 million in FY 2024 contract authority for competitive grants under the Passenger Ferry Program. FTA may award additional funding made available to the program prior to the announcement of project selections. The Consolidated Appropriations Act, 2024 (Pub. L. 118-42) made an additional $20 million available, of which at least $5 million must be for low or zero emission ferries and related infrastructure. The Further Consolidated Appropriations Act, 2024 (Pub. L. 118-47) made an additional $1 million available. In FY 2023, FTA received 22 eligible applications from nine States requesting $208 million in Federal Passenger Ferry Program funds. Seven projects were funded at a total of $50.1 million.

Division J of the BIL provides an advance appropriation of $50 million in FY 2024 funds for competitive grants under the Low-No Ferry Program. Of that amount, $995,000 is for FTA oversight, $5,000 is transferred to the DOT Office of Inspector General (OIG), and $49 million is available for award. There was no NOFO for the Low-No Ferry Program in FY 2023 as all FY 2023 funds were allocated in response to the FY 2022 NOFO.

Division J of the BIL provides an advance appropriation of $200 million in FY 2024 funds for the Rural Ferry Program. Of that amount, $3,980,000 is for FTA oversight, and $20,000 is transferred to the DOT Office of Inspector General, leaving $196 million available for award. The Consolidated Appropriations Act, 2024 made an additional $20 million available for eligible entities that operate ferry service with a single segment of over 15 miles between two rural areas and meet all other program requirements. In FY 2023, FTA received six eligible applications from four States and the territory of American Samoa requesting $210 million in Federal Rural Ferry Program funds. All six projects were funded at a total of $170 million.

FTA will grant pre-award authority to incur eligible costs for selected projects beginning on the date the FY 2024 project selections are announced on FTA's website. A project selected under the Rural Ferry Program that is a continuation of a project that was selected through the FY 2022 or FY 2023 NOFOs will be granted pre-award authority from the time of the previous project selection announcement, otherwise funds are available only for projects that have not already incurred costs prior to the announcement of project selections. Funds are available for obligation for five years after the fiscal year in which the project selections are announced.

C. Eligibility Information

1. Eligible Applicants

Program | Eligible applicants
Passenger Ferry Program | • Designated Recipients of Section 5307 Funding. • Direct Recipients of Section 5307 Funding. • Public Entities engaged in providing public transportation passenger ferry service in urban areas that are eligible to be a Direct Recipient.
Low-No Ferry Program | • Designated Recipients of Section 5307 Funding. • Direct Recipients of Section 5307 Funding. • Public Entities engaged in providing public transportation passenger ferry service in urban areas that are eligible to be a Direct Recipient. • States and territories. • Tribal governments.
Rural Ferry Program | • States and territories.

Eligible applicants for the Passenger Ferry Program are: (1) designated recipients as defined in FTA Circular “Urbanized Area Formula Program: Program Guidance and Application Instructions” (FTA C.9030.1E), (2) direct recipients of FTA's Urbanized Area Formula Grants, and (3) public entities engaged in providing public transportation passenger ferry service in urban areas that are eligible to be direct recipients.

Eligible applicants for the Low-No Ferry Program are any eligible recipient of section 5307 or section 5311 funding. Eligible section 5307 recipients are the same as for the Passenger Ferry Program: (1) designated recipients as defined in FTA Circular “Urbanized Area Formula Program: Program Guidance and Application Instructions” (FTA.C.9030.1E) and (2) direct recipients of FTA's Urbanized Area Formula Grants, as well as public entities engaged in providing public transportation passenger ferry service in urban areas that are eligible to be direct recipients. Eligible section 5311 recipients are States or territories or tribal governments. In addition, as required by statute, before the conclusion of the grant competition that utilizes FY 2026 funds, FTA must select: (1) at least one project from a ferry service that serves the State with the largest number of Marine Highway System miles, and (2) at least one project for a bi-State ferry service with an aging fleet and whose development of zero- and low-emission power source ferries will propose to advance the state of the technology toward increasing the range and capacity of zero-emission power source ferries. If an applicant's ferry service operates in the State with the largest number of Marine Highway System miles or is a bi-State ferry service (a ferry service that serves two states) with an aging fleet and whose development of zero- and low-emission power source ferries will propose to advance the state of the technology toward increasing the range and capacity of zero-emission power source ferries, the applicant must identify themselves as such and submit documentation demonstrating those operating characteristics.

Eligible applicants for the Rural Ferry Program are States and territories in which eligible service is operated. For the $196 million made available under Division J of the BIL, eligible service includes passenger ferry service that operated a regular schedule at any time between March 1, 2015, and March 1, 2020, and operated at least one segment between two rural areas located more than 50 sailing (nautical) miles apart. FTA defines a regular schedule as a published schedule for either seasonal or year-round ferry service. Applicants must not have attributed data to an urbanized area in their most recent report to the National Transit Database for their ferry services. Eligible applicants for the $20 million in Rural Ferry Funds made available under the Consolidated Appropriations Act, 2024 are the same as above but must operate at least one segment between two rural areas of more than 15 miles. Applicants must document their eligibility for the Rural Ferry Program by providing the following:

A. Documentation such as dated and published sailing schedules to demonstrate the operation of regular scheduled service at any time during the five-year period ending March 1, 2020.

B. Documentation such as route maps to demonstrate provision of service for at least one direct segment between two rural areas that meet the distance requirements described above, during the five-year period ending March 1, 2020.

FTA will confirm the segment length based upon data reported to the National Census of Ferry Operators maintained by the Bureau of Transportation Statistics.

An eligible applicant that does not currently have an active grant with FTA will, upon selection, be required to work with an FTA regional office to establish its organization as an active grant recipient. This process may require additional documentation to support the organization's technical, financial, and legal capacity to receive and administer Federal funds under this program.

2. Cost Sharing or Matching

a. The maximum Federal share for capital projects selected under each program is 80 percent of the net project cost, with the exceptions described in paragraphs b and c below, per 49 U.S.C. 5323. The maximum Federal share for planning projects selected under the Rural Ferry Program is 80 percent. There is no maximum Federal share for operating projects selected under the Rural Ferry Program in FY 2024; however, similar to FY 2023, FTA will require the State or locality to provide, at a minimum, 75 percent of the three-year average prior to the pandemic (2017, 2018, and 2019) on an annual basis to support ferry service for the period supported by the grant. For example, if a State or locality normally provided $1 million in operating assistance annually, an applicant should include at least $750,000 in State or local operating assistance.

b. The maximum Federal share is 85 percent of the net project cost of acquiring vehicles (including clean-fuel or alternative fuel vehicles) for purposes of complying with or maintaining compliance with the Clean Air Act (CAA) or the Americans with Disabilities Act (ADA) of 1990.

c. The maximum Federal share is 90 percent of the net project cost of acquiring, installing, or constructing vehicle-related equipment or facilities (including clean fuel or alternative-fuel vehicle-related equipment or facilities) for purposes of complying with or maintaining compliance with the ADA or CAA. The award recipient must itemize the cost of specific, discrete, vehicle-related equipment associated with compliance with the ADA or CAA to be eligible for the maximum 90 percent Federal share for these costs.

Eligible sources of non-Federal matching funds include:

a. Cash from non-governmental sources other than revenues from providing the ferry services (such as fare revenues, vehicle, or cargo charges, etc.);

b. Non-farebox revenues from the operation of public transportation service, such as the sale of advertising and concession revenues;

c. Monies received under a service agreement with a State or local social service agency or private social service organization;

d. Undistributed cash surpluses, replacement or depreciation cash funds, reserves available in cash, or new capital;

e. Amounts appropriated or otherwise made available to a department or agency of the Government (other than the USDOT), that are eligible to be used to satisfy non-Federal matching requirements and expended for public transportation;

f. In-kind contributions integral to the project;

g. Revenue bond proceeds for a capital project, with prior FTA approval; and

h. Transportation Development Credits (formerly referred to as Toll Revenue Credits).

If an applicant proposes a Federal share greater than 80 percent, the applicant must clearly explain why the project is eligible for the proposed Federal share.

3. Eligible Projects

Program | Eligible projects
Passenger Ferry Program | • Capital Projects—purchase, construction, replacement, or rehabilitation of ferries, terminals, related infrastructure and related equipment (including electric or low-emitting ferry vessels and related infrastructure).
Low-No Ferry Program | • Capital Projects—purchase of electric or low-emitting ferry vessels and related infrastructure.
Rural Ferry Program | • Capital Projects—purchase, construction, replacement, or rehabilitation of ferries, terminals, related infrastructure and related equipment (including electric or low-emitting ferry vessels and related infrastructure). • Planning Projects—for rural ferry service only. • Operating Projects—for rural ferry service only.

3A. Passenger Ferry Program—Eligible Projects

Under the Passenger Ferry Program, eligible projects are capital projects for the purchase, construction, replacement, or rehabilitation of ferries, terminals, related infrastructure, and related equipment (including fare equipment and communication devices). Projects are required to support a passenger ferry service that serves an urbanized area and may include services that operate between an urbanized area and rural areas. Ferry systems that accommodate cars must also accommodate walk-on passengers to be eligible for funding. Operating costs and planning projects are not eligible.

Under the Passenger Ferry Program only, recipients are permitted to use up to 0.5 percent of their grant award to pay for not more than 80 percent of the cost for workforce development activities eligible under Federal public transportation law (49 U.S.C 5314(b)) and an additional 0.5 percent for costs associated with training at the National Transit Institute. Applicants must identify the proposed use of funds for these activities in the project proposal and identify them separately in the project budget. Supportive services, such as childcare and transportation assistance for participants, are an eligible use of program funds under 49 U.S.C. 5314(b). FTA has published clarifying frequently asked questions regarding supportive services on its website at https://www.transit.dot.gov/funding/grants/federal-transit-administration-faqs-supportive-services.

3B. Low-No Ferry Program—Eligible Projects

Under the Low-No Ferry Program, eligible projects are capital projects for the purchase of electric or low-emitting ferry vessels that reduce emissions by using alternative fuels or on-board energy storage systems and related charging infrastructure or other fueling infrastructure to reduce emissions or produce zero onboard emissions under normal operation. Ferry systems that accommodate cars must also accommodate walk-on passengers to be eligible for funding. Operating costs and planning projects are not eligible.

Alternative fuel means:

(A) methanol, denatured ethanol, and other alcohols;

(B) a mixture containing at least 85 percent of methanol, denatured ethanol, and other alcohols by volume with gasoline or other fuels;

(C) natural gas;

(D) liquefied petroleum gas;

(E) hydrogen;

(F) fuels (except alcohol) derived from biological materials; and

(G) electricity (including electricity from solar energy).

3C. Rural Ferry Program—Eligible Projects

Under the Rural Ferry Program, eligible projects are capital, operating, or planning assistance. However, systems that are only eligible for funding under the $20 million provided by the Consolidated Appropriations Act, 2024 may not apply for a planning or operating project limited to funding a segment between two rural areas less than 15 miles apart. They may apply for planning or operating assistance if the project includes at least one segment longer than 15 miles apart. Eligible capital projects include the purchase, construction, replacement, or rehabilitation of ferries, terminals, related infrastructure, and related equipment (including fare equipment and communication devices). Only net operating expenses are eligible for assistance. Net operating expenses are those expenses that remain after the provider subtracts operating revenues from eligible operating expenses. States may further define what constitutes operating revenues, but, at a minimum, operating revenues must include farebox revenues and other fees generated directly by the ferry service such as vehicle fares, cargo fees, and cabin fees. Farebox revenues are fares paid by riders, including those who are later reimbursed by a human service agency or other user-side subsidy arrangement. For more information, please see FTA Circular 9040.1G at https://www.transit.dot.gov/regulations-and-guidance/fta-circulars/formula-grants-rural-areas-program-guidance-and-application. Eligible projects are not required to be implemented on the same route segments that resulted in applicant eligibility (e.g., the project need not be implemented on a segment of more than 50 sailing (nautical) miles). Ferry systems that accommodate cars must also accommodate walk-on passengers to be eligible for funding.

For all programs above, walk-on passengers are defined as passengers who board the vessel unaccompanied by any motor vehicle in which they may have arrived at the ferry terminal, and which remains behind after ferry departure.

D. Application and Submission Information

1. Address To Request Application Package

Applications may be accessed at GRANTS.GOV and must be submitted electronically through GRANTS.GOV. General information for accessing and submitting applications through GRANTS.GOV can be found at https://www.fta.dot.gov/howtoapply along with specific instructions for the forms and attachments required for submission. Mail or fax submissions will not be accepted. The required SF-424 Application for Federal Assistance can be downloaded from GRANTS.GOV and the required supplemental form can be downloaded from GRANTS.GOV or the FTA website at https://www.transit.dot.gov/grants/fta-ferry-programs.

2. Content and Form of Application Submission

A. Proposal Submission

A complete proposal submission consists of two forms: (1) the SF-424 Application for Federal Assistance; and (2) the FY 2024 Passenger Ferry Program, Low-No Ferry Program, and Rural Ferry Program supplemental form. An application eligible under the Low-No Ferry Program may also be eligible under either the Passenger Ferry Program or Rural Ferry Program. If an applicant is applying to multiple programs, they must submit the application materials through the GRANTS.GOV opportunity ID's listed for each program. If an applicant is submitting different proposals to different programs, the applicant must submit an application for each project to each program separately. The supplemental form and any supporting documents must be attached to the “Attachments” section of the SF-424. The application must include responses to all sections of the SF-424 Application for Federal Assistance and the supplemental form, unless designated as optional. The information on the supplemental form will be used to determine applicant and project eligibility for the program, and to evaluate the proposal against the selection criteria described in part E of this notice. Failure to submit the information as requested can delay review or disqualify the application.

FTA will accept only one supplemental form per SF-424 submission. FTA encourages States and other applicants to consider submitting a single supplemental form that includes multiple activities as one project to be evaluated as a consolidated proposal. If a State or other applicant chooses to submit separate proposals for individual consideration by FTA, each proposal must be submitted using a separate SF-424 and supplemental form.

Applicants may attach additional supporting information to the SF-424 submission, including but not limited to documentation supporting the applicant's eligibility for the grant programs, letters of support, project budgets, fleet status reports, or excerpts from relevant planning documents. Supporting documentation should be described and referenced by file name in the appropriate response section of the supplemental form, or it may not be reviewed.

Information such as applicant name, Federal amount requested, local match amount, and description of areas served may be requested in varying degrees of detail on both the SF-424 and supplemental form. Applicants must fill in all fields unless otherwise stated on the forms. Applicants should not place “N/A” or “refer to attachment” in lieu of typing in responses in the field sections. If information is copied into the supplemental form from another source, applicants should verify that pasted text is fully captured on the supplemental form and has not been truncated by the character limits built into the form. Applicants should use both the “Check Package for Errors” and the “Validate Form” validation buttons on both forms to check all required fields on the forms and ensure that the Federal and local amounts specified are consistent.

B. Application Content

The SF-424 Application for Federal Assistance and the supplemental form will prompt applicants for the required information:

a. Applicant name.

b. Unique entity identifier (UEI) (generated by SAM.GOV).

c. Key contact information (including contact name, address, email address, and phone).

d. Congressional district(s) in which the project is located.

e. Project information (including title, executive summary, and type).

f. A detailed description of the need for the project.

g. A detailed description of how the project will support the program objectives.

h. Evidence that the project is consistent with local and regional planning objectives.

i. Evidence that the applicant can provide the non-Federal cost share.

j. A description of the technical, legal, and financial capacity of the applicant.

k. A detailed project budget that shows how different funding sources, including Federal amount requested, local match (non-Federal), other Federal funds, and other funding sources will share in each activity. The budget should identify other Federal funds the applicant is applying for or has been awarded, if any, that the applicant intends to use.

l. An explanation of the scalability of the project.

m. Details on the non-Federal matching funds.

n. For any application for operating assistance under the Rural Ferry program, the applicant should provide the amount of State or local funds provided for operating assistance for the three years of operation prior to the start of the pandemic, January 20, 2020. Applicants, at their discretion, may provide the three years of data ending on the last day of the applicant's fiscal year ending prior to January 20, 2020; end of the Federal fiscal year ending prior to January 20, 2020 (September 30, 2019); or ending January 20, 2020.

o. A detailed project timeline.

p. Address all the applicable criteria and priority considerations identified in section E.

3. Unique Entity Identifier and System for Award Management (SAM)

Each applicant is required to: (1) be registered in SAM.GOV before submitting an application; (2) provide a valid unique entity identifier in its application; and (3) continue to maintain an active SAM registration with current information at all times during which the applicant has an active Federal award or an application or plan under consideration by FTA. FTA may not make an award until the applicant has complied with all applicable unique entity identifier and SAM requirements. If an applicant has not fully complied with the requirements by the time FTA is ready to make an award, FTA may determine that the applicant is not qualified to receive an award and use that determination as a basis for making a Federal award to another applicant. These requirements do not apply if the applicant has an exception approved by FTA or the U.S. Office of Management and Budget under 2 CFR 25.110(c) or (d).

All applicants must provide a unique entity identifier provided by SAM. Registration in SAM may take as little as 3-5 business days, but since there could be unexpected steps or delays (for example, if there is a need to obtain an Employer Identification Number), FTA recommends allowing ample time, up to several weeks, for completion of all steps. For additional information on obtaining a unique entity identifier, please visit https://www.sam.gov.

4. Submission Dates and Times

Project proposals must be submitted electronically through GRANTS.GOV by 11:59 p.m. eastern time on June 17, 2024. GRANTS.GOV attaches a time stamp to each application at the time of submission. Mail and fax submissions will not be accepted.

Within 48 hours after submitting an electronic application, the applicant should receive an email message from GRANTS.GOV with confirmation of successful transmission to GRANTS.GOV. If a notice of failed validation or incomplete materials is received, the applicant must address the reason for the failed validation, as described in the email notice, and resubmit before the submission deadline. If making a resubmission for any reason, include all original attachments regardless of which attachments were updated and check the box on the supplemental form indicating this is a resubmission.

FTA urges applicants to submit applications at least 72 hours prior to the due date to allow time to receive the validation messages and to correct any problems that may have caused a rejection notification. GRANTS.GOV scheduled maintenance and outage times are announced on the GRANTS.GOV website. Deadlines will not be extended due to scheduled website maintenance.

Applicants are encouraged to begin the process of registration on the GRANTS.GOV site well in advance of the submission deadline. Registration is a multi-step process, which may take several weeks to complete before an application can be submitted. Registered applicants may still be required to take steps to keep their registration up to date before submissions can be made successfully as (1) registration in SAM is renewed annually; and (2) persons making submissions on behalf of the Authorized Organization Representative (AOR) must be authorized in GRANTS.GOV by the AOR to make submissions.

5. Funding Restrictions

Funds made available under the Passenger Ferry Program and Low-No Ferry Program may not be used to fund operating expenses, planning, or preventive maintenance. Any project that does not include the purchase, construction, replacement, or rehabilitation of ferries, terminals, related infrastructure, or related equipment is not eligible. Applicants to the Rural Ferry Program may apply for capital, operating, or planning assistance, except as described above.

Except for a continuation of projects funded under the FY 2022 or FY 2023 Rural Ferry Program, funds made available under this NOFO cannot be used to reimburse applicants for otherwise eligible expenses incurred prior to the posting of project selections on FTA's website and the corresponding issuance of pre-award authority. Allowable direct and indirect expenses must be consistent with the Government-wide Uniform Administrative Requirements, Cost Principles, and Audit Requirements for Federal Awards (2 CFR part 200) and FTA Circular 5010.1E (https://www.transit.dot.gov/regulations-and-guidance/fta-circulars/award-management-requirements-circular-50101e).

As required by statute, an eligible ferry service that receives funds from a state under the Rural Ferry Program shall not be attributed to an urbanized area for purposes of apportioning funds under chapter 53 of title 49, U.S. Code. In addition, an eligible service that receives funds from a state under the Rural Ferry Program shall not receive funds apportioned under section 5336 or 5337 of title 49, U.S. Code, in the same fiscal year.

6. Other Submission Requirements

Applicants are encouraged to identify scaled funding options in case insufficient funding is available to fund a project at the full requested amount. If an applicant advises that a project is scalable, the applicant must provide an appropriate minimum funding amount that will fund an eligible project that achieves the objectives of the program and meets all relevant program requirements. The applicant must provide a clear explanation of how the project budget would be affected by a reduced award. FTA may award a lesser amount whether or not a scalable option is provided.

The Department may share application information within the Department or with other Federal agencies if the Department determines that sharing is relevant to the respective program's objectives.

E. Application Review Information

1. Criteria

Projects will be evaluated primarily on the responses provided in the supplemental form. Additional information may be provided to support the responses; however, any additional documentation must be directly referenced on the supplemental form, including the file name where the additional information can be found. FTA will evaluate project proposals based on the criteria described in this notice.

a. Demonstration of Need

Applications for capital expenses to the Passenger Ferry Program, Low-No Ferry Program, or Rural Ferry Program will be evaluated based on the quality and extent to which they demonstrate how the proposed project will address an unmet need for capital investment in passenger ferry vehicles, equipment, or facilities. FTA will also evaluate the project's impact on service delivery and whether the project represents a one-time or periodic need that cannot reasonably be funded from FTA formula program allocations or State or local resources. In evaluating applications, FTA will consider, among other factors, certain project-specific criteria as outlined below:

i. For vessel replacement or rehabilitation projects (including low or zero-emission ferries or electric and low-emitting ferries)

• The age of the asset to be replaced or rehabilitated by the proposed project, relative to its useful life—those applicants that are already FTA grantees should reference the useful life benchmark for the vehicles to be replaced identified in their Transit Asset Management Plan and reported to the National Transit Database. Those applicants should also describe how replacing the vehicle will help them meet the state of good repair performance targets set in their Transit Asset Management (TAM) Plan.

• The condition of the asset to be replaced by the proposed project, as ascertained through inspections or otherwise, if available.

ii. For facility infrastructure improvements or related-equipment acquisitions:

• The age of the facility or equipment to be rehabilitated or replaced, relative to its useful life—those applicants that are already FTA grantees should reference the condition of the facility as reported to the National Transit Database and how the project will help meet the state of good repair performance targets in the Transit Asset Management (TAM) Plan.

• The degree to which the proposed project will enable the agency to improve the maintenance and condition of the agency's fleet or related ferry assets.

iii. For vessel or facility-related expansion or new service requests:

• The degree to which the proposed project addresses a current capacity constraint that is limiting the ability of the agency to provide reliable service, meet ridership demands, or maintain vessels and related equipment.

• The degree to which the proposed new service is supported by ridership demand.

iv. For operating projects under the Rural Ferry Program:

• The degree to which the application addresses how additional operating resources will lead to more reliable or improved service, or meet additional service demands.

• The financial need demonstrated by the applicant, including actual or projected need to maintain or initiate ferry service and a description of how existing operating resources are insufficient to meet the need.

• For expansion operating projects, projected ridership on the new service and the methodology used by the applicant to determine the projection.

v. For planning projects under the Rural Ferry Program:

• The degree to which the application addresses how planning resources will lead to more reliable or improved service, or meet additional service demands.

b. Demonstration of Benefits

All applications will be evaluated based on how the ferry project will accomplish one or more of the following: (1) improve the state of good repair and/or safety of the overall ferry system, (2) sustain or provide additional transportation options that foster community development and access to economic opportunities, and/or (3) sustain or improve the quality of transit service to underserved communities.

Additionally, all applications will be evaluated on their support for walk-on passengers. Walk-on passengers are defined as passengers who board the vessel unaccompanied by any motor vehicle in which they may have arrived at the ferry terminal, and which remains behind after ferry departure. The support for walk-on passengers will be evaluated as follows:

For replacement or rehabilitation projects, benefits will be evaluated in part based on the percentage of riders that are walk-on compared to passengers using the service to transport automobiles.

For expansion projects, benefits will be evaluated in part based on what convenient infrastructure is provided at the origin and destination of the service and at any intermediary stops that supports transit and intercity bus riders, pedestrians, or bicycles. Supporting documentation should include data that demonstrates the number of trips (passengers and vehicles), the number of walk-on passengers, and the frequency of transfers to other modes, if applicable.

In addition to the above elements, projects for low- or zero-emission ferries under any program or projects for operating assistance under the Rural Ferry program will be evaluated as follows:

For low- or zero-emission ferries, applicants should demonstrate how the proposed ferries or infrastructure will reduce the emission of particulates and other pollutants that create local air pollution, which leads to local environmental health concerns, smog, and unhealthy ozone concentrations. Applicants should also demonstrate how the proposed ferries or infrastructure will reduce emissions of greenhouse gases from ferry operations. Projects that propose the use of zero-emission ferries and related infrastructure for producing zero onboard emissions during normal operations will be more competitive.

For operating projects under the Rural Ferry Program, applicants should address and document how the requested operating funds will be used to augment, and not replace, existing state or local operating funds.

c. Planning and Local/Regional Prioritization

Applicants that are already FTA recipients and are seeking a capital grant should demonstrate that the project is included in the investment prioritization of their Transit Asset Management (TAM) Plan.

Applicants must demonstrate how the proposed project is consistent with local and regional planning documents and identified priorities. This will involve assessing whether the project is consistent with the transit priorities identified in the long-range transportation plan and the State and Metropolitan Transportation Improvement Program (STIP/TIP). Applicants should note if the project could not be included in the financially constrained STIP or TIP due to lack of funding, and if selected that the project can be added to the federally approved STIP before grant award.

FTA encourages applicants to demonstrate state or local support by including letters of support from State departments of transportation, local transit agencies, local government officials and public agencies, local non-profit or private sector organizations, and other relevant stakeholders. Applications that include letters of support will be viewed more favorably than those that do not. For FTA to fully consider a letter of support, the letter must be included in the application package. In an area with both ferry and other public transit operators, FTA will evaluate whether project proposals demonstrate coordination with and support of other related projects within the applicant's Metropolitan Planning Organization (MPO) or the geographic region within which the proposed project will operate.

d. Local Financial Commitment

Applicants must identify the source of the local cost share and describe whether such funds are currently available for the project or will need to be secured if the project is selected for funding. FTA will consider the availability of the local cost share as evidence of local financial commitment to the project. Additional consideration will be given to those projects for which local funds have already been made available or reserved. Applicants should submit evidence of the availability of funds for the project, by including, for example, a board resolution, letter of support from the State, a budget document highlighting the line item or section committing funds to the proposed project, or other documentation of the source of non-Federal funds.

An applicant may provide documentation of previous and recent local investments in the project, which cannot be used to satisfy non-Federal matching requirements, as evidence of local financial commitment.

Applicants that request a Federal share for a capital project greater than 80 percent must clearly explain why the project is eligible for the proposed Federal share. For planning projects under the Rural Ferry Program, the Federal share may not exceed 80 percent. For operating projects under the Rural Ferry Program, there is no maximum Federal share to a grant awarded under this program, however, the applicant must maintain the non-Federal funding levels described in section C of this notice.

e. Project Implementation Strategy

Projects will be evaluated based on the extent to which the project is ready to implement within a reasonable period of time and whether the applicant's proposed implementation plans are reasonable and complete.

In assessing whether the project is ready to implement within a reasonable period of time, FTA will consider whether the project qualifies for a Categorical Exclusion, or whether the required environmental work has been initiated or completed for projects that require an Environmental Assessment or Environmental Impact Statement under the National Environmental Policy Act of 1969. As such, applicants should submit information describing the project's anticipated path and timeline through the environmental review process. If the project will qualify as a Categorical Exclusion, the applicant must say so explicitly in the application. The proposal must also state whether grant funds can be obligated within 12 months from time of award, if selected, and if necessary, the timeframe under which the TIP and STIP can be amended to include the proposed project. Additional consideration will be given to projects for which grant funds can be obligated within 12 months from time of award.

In assessing whether the proposed implementation plans are reasonable and complete, FTA will review the proposed project implementation plan, including all necessary project milestones and the overall project timeline. For projects that will require formal coordination, approvals, or permits from other agencies or project partners, the applicant must demonstrate coordination with these organizations and their support for the project, such as through letters of support.

f. Technical, Legal, and Financial Capacity

Applicants must demonstrate that they have the technical, legal, and financial capacity to undertake the project. FTA will review relevant oversight assessments and records to determine whether there are any outstanding legal, technical, or financial issues with the applicant that would affect the outcome of the proposed project. Additional information on the compliance requirements for these grants appears later in this notice.

Applicants with outstanding legal, technical, or financial compliance issues from an FTA compliance review or FTA grant-related Single Audit finding must explain how corrective actions taken will mitigate negative impacts on the project.

2. Review and Selection Process

FTA technical evaluation committees will evaluate proposals using the project evaluation criteria. FTA staff may request additional information from applicants, if necessary. After consideration of the findings of the technical evaluation committees, FTA will determine the final selection of projects for program funding. In determining the allocation of program funds, FTA may consider geographic diversity, diversity in the size of the transit systems receiving funding, walk-on vs. vehicle boardings for the impacted service, and the applicant's receipt of other competitive awards. FTA will also consider whether the project will include low or zero-emission ferries, including ferries using electric battery or fuel cell components and the infrastructure to support such ferries. FTA may consider capping the amount a single applicant may receive.

After applying the above criteria, to address climate change and sustainability, FTA will give priority consideration to applications that are expected to create significant community benefits relating to the environment, including those projects that incorporate low or no emission technology or specific elements to address greenhouse gas emissions and climate change impacts. For facility projects, FTA will give priority consideration to applications that include elements to strengthen the resilience of the community and/or the transit system with regard to climate change.

FTA will also provide priority consideration for applicants that describe how their projects support workforce development, job quality, and wealth creation as follows:

Applicants for facility projects should identify whether they will commit to registered apprenticeship positions and use apprentices on the funded project, sometimes called an apprenticeship utilization requirement (e.g., requiring that a certain percent of all labor hours will be performed by registered apprentices). Applicants should also detail partnerships with high-quality workforce development programs with supportive services ² to help train, place, and retain underrepresented communities in jobs and registered apprenticeships on the project.

² Supportive services are critical to help women and people facing systemic barriers to employment be able to participate and thrive in training and employment. Supportive services may include dependent care, tools, work clothing, application fees and other costs of apprenticeship or required pre-employment training, transportation and travel to training and work sites, and services aimed at helping to retain underrepresented groups such as mentoring, support groups, and peer networking.

In addition to the above, facility projects over $35 million in total project cost, should identify whether the project will use a Project Labor/Community Workforce Agreement and whether the recipient commits to participate in the U.S. Department of Labor's Office of Federal Contract Compliance Programs (OFCCP) Mega Construction Project Program if selected by OFCCP (see F.2.e. Federal Contract Compliance).

FTA will also give priority consideration to projects that support the goals of the Justice40 Initiative, https://www.transportation.gov/equity-Justice40. In support of Executive Order 14008, applicants are encouraged to use the White House definition of “Historically Disadvantaged Communities” as part of USDOT's implementation of the Justice40 Initiative. Consistent with the Interim Implementation Guidance and its Addendum for the Justice40 Initiative, Historically Disadvantaged Communities include (a) certain qualifying census tracts identified as disadvantaged by the Climate and Economic Justice Screening Tool (CEJST): https://screeningtool.geoplatform.gov/ due to categories of environmental, climate, and socioeconomic burdens, and (b) any Federally Recognized Tribes or tribal entities, whether or not they have land. CEJST is a tool created by the White House Council on Environmental Quality (CEQ), that aims to help Federal agencies identify disadvantaged communities as part of the Justice40 Initiative to accomplish the goal that 40 percent of overall benefits from certain Federal investments reach disadvantaged communities. See https://screeningtool.geoplatform.gov/. Applicants should use the CEJST as the primary tool to identify disadvantaged communities (also referred to as Justice40 communities).

Applicants are strongly encouraged to also use the USDOT Equitable Transportation Community (ETC) Explorer to understand how their community or project area is experiencing disadvantage related to lack of transportation investments or opportunities and are encouraged to use this information in their application to demonstrate how their project will reduce, reverse, or mitigate the burdens of disadvantage. https://www.transportation.gov/priorities/equity/justice40/etc-explorer.

Due to funding limitations, projects that are selected for funding may receive less than the amount originally requested, even if an application did not present a scaled project option. In those cases, applicants must be able to demonstrate that the proposed projects are still viable and can be completed with the amount awarded.

3. Integrity and Performance Review

Prior to making an award with a total amount of Federal share greater than the simplified acquisition threshold (currently $250,000), FTA is required to review and consider any information about the applicant that is in the Federal Awardee Performance and Integrity Information Systems (FAPIIS) accessible through SAM.GOV. An applicant may review and comment on information about itself that a Federal awarding agency previously entered. FTA will consider any comments by the applicant, in addition to the other information in FAPIIS, in making a judgment about the applicant's integrity, business ethics, and record of performance under Federal awards when completing the review of risk posed by applicants as described in 2 CFR 200.206.

F. Federal Award Administration Information

1. Federal Award Notices

Final project selections will be posted on the FTA website. Only proposals from eligible recipients for eligible activities will be considered for funding. There is no minimum or maximum grant award amount; however, FTA intends to fund as many meritorious projects as possible. Due to funding limitations, projects that are selected for funding may receive less than the amount originally requested. In those cases, applicants must be able to demonstrate that the proposed projects are still viable and can be completed with the amount awarded.

Recipients should contact their FTA Regional Office (https://www.transit.dot.gov/about/regional-offices/regional-offices) for additional information regarding allocations for projects under the Ferry Programs.

2. Administrative and National Policy Requirements

a. Pre-Award Authority

At the time the project selections are announced, FTA will extend pre-award authority for the selected projects consistent with 2 CFR 200.458. Except for continuations of projects selected under the FY 2023 Rural Ferry Program, there is no blanket pre-award authority for these projects before announcement, and pre-award authority cannot be used prior to FTA issuance of pre-award authority. Note, for projects selected under the FY 2022 and FY 2023 Rural Ferry Program, pre-award authority is only permissible for activities included and approved in the application submitted to that competition. FTA does not provide pre-award authority for competitive funds until projects are selected and even then, there are Federal requirements that must be met before costs are incurred. For more information about FTA's policy on pre-award authority, please see FTA's most recent Apportionment Notice.

b. Grant Requirements

If selected, awardees will apply for a grant through FTA's Transit Award Management System (TrAMS). All Passenger Ferry Program recipients and urbanized area Low-No Ferry Program recipients are subject to the grant requirements of the Urbanized Area Formula Grant program (49 U.S.C. 5307). All rural area Low-No Ferry and Rural Ferry Program recipients are subject to the grant requirements of the Rural Area Formula Grant Program (49 U.S.C. 5311). Awardees are also subject to the following as applicable: FTA's Master Agreement for financial assistance awards, the annual Certifications and Assurances required of applicants, FTA Circular “Urbanized Area Formula Program: Program Guidance and Application Instructions” (FTA.C.9030.1E) or FTA Circular “Formula Grants for Rural Areas” (FTA.C.9040.1G). All recipients must also follow the FTA Award Management Requirements Circular (FTA.C.5010.1) and the labor protections required by Federal public transportation law (49 U.S.C. 5333(b)). All these documents are available on FTA's website. Technical assistance regarding these requirements is available from each FTA regional office.

By submitting a grant application, the applicant assures that it will comply with all applicable Federal statutes, regulations, executive orders, directives, FTA circulars and other Federal administrative requirements in carrying out any project supported by the FTA grant, including the Davis-Bacon Act (40 U.S.C. 3141-3144, and 3146-3148) as supplemented by Department of Labor regulations (29 CFR part 5, “Labor Standards Provisions Applicable to Contracts Covering Federally Financed and Assisted Construction”). Further, the applicant acknowledges that it is under a continuing obligation to comply with the terms and conditions of the grant agreement issued for its project with FTA. The applicant understands that Federal laws, regulations, policies, and administrative practices might be modified from time to time and may affect the implementation of the project. The applicant agrees that the most recent Federal requirements will apply to the project unless FTA issues a written determination otherwise. The applicant must submit the Certifications and Assurances before receiving a grant if it does not have current certifications on file.

As authorized by section 25019 of the BIL, applicants are encouraged to implement a local or other geographical or economic hiring preference relating to the use of labor for construction of a project funded by the grant, including pre-hire agreements, subject to any applicable State and local laws, policies, and procedures.

c. Buy America and Domestic Preferences for Infrastructure Projects

As expressed in Executive Order 14005, “Ensuring the Future Is Made in All of America by All of America's Workers” (86 FR 7475), the Executive Branch should maximize, consistent with law, the use of goods, products, and materials produced in, and services offered in, the United States. Therefore, all capital procurements must comply with FTA's Buy America requirements (49 U.S.C. 5323(j)), which require that all iron, steel, and manufactured products be produced in the United States. In addition, any award must comply with the Build America, Buy America Act (BABA) (Pub. L. 117-58, sections 70901-27). BABA provides that none of the funds provided under an award made pursuant to this notice may be used for a project unless all iron, steel, manufactured products, and construction materials are produced in the United States. FTA's Buy America requirements are consistent with BABA requirements for iron, steel, and manufactured products.

Any proposal that will require a waiver of any domestic preference standard must identify the items for which a waiver will be sought in the application. Applicants should not proceed with the expectation that waivers will be granted.

d. Civil Rights and Title VI

As a condition of a grant award, grant recipients should demonstrate that the recipient has a plan for compliance with civil rights obligations and nondiscrimination laws, including Title VI of the Civil Rights Act of 1964 (49 CFR part 21), the Americans with Disabilities Act of 1990 (ADA) (49 CFR parts 37, 38, and 39), section 504 of the Rehabilitation Act, other civil rights requirements, and all implementing regulations. This should include a current Title VI plan, completed Community Participation Plan (alternatively called a Public Participation Plan and often part of the overall Title VI program plan), if applicable. DOT's and the applicable Operating Administrations' Office of Civil Rights may work with awarded grant recipients to ensure full compliance with Federal civil rights requirements.

e. Disadvantaged Business Enterprise

Recipients of planning, capital, or operating assistance that will award prime contracts (excluding transit vehicle purchases), the cumulative total of which exceeds $250,000 in FTA funds in a Federal fiscal year, must comply with the Disadvantaged Business Enterprise (DBE) program regulations (49 CFR part 26). Projects that include ferry acquisitions are subject to the transit vehicle manufacturer (TVM) rule of the Disadvantaged Business Enterprise (DBE) program regulations (49 CFR 26.49). The TVM rule requires recipients procuring transit vehicles, including ferries, to limit eligible bidders to certified TVMs. To become a certified TVM, a manufacturer of transit vehicles must submit a DBE program plan and annual goal to FTA for approval. A list of certified TVMs is posted on FTA's web page at https://www.transit.dot.gov/TVM. Recipients should contact FTA before accepting bids from entities not appearing on this list. In lieu of restricting eligibility to certified TVMs, a recipient may, with FTA's approval, establish project-specific goals for DBE participation in the procurement of transit vehicles. For more information on DBE requirements, please contact Monica McCallum, FTA Office of Civil Rights, 206-220-7519, Monica.McCallum@dot.gov.

f. Federal Contract Compliance

As a condition of grant award and consistent with E.O. 11246, Equal Employment Opportunity (30 FR 12319, and as amended), all Federally-assisted construction contractors are required to make good faith efforts to meet the goals of 6.9 percent of construction project hours being performed by women, in addition to goals that vary based on geography for construction work hours and for work being performed by people of color. Under section 503 of the Rehabilitation Act and its implementing regulations, affirmative action obligations for certain contractors include an aspirational employment goal of 7 percent workers with disabilities.

The U.S. Department of Labor's Office of Federal Contract Compliance Programs (OFCCP) is charged with enforcing Executive Order 11246, section 503 of the Rehabilitation Act of 1973, and the Vietnam Era Veterans' Readjustment Assistance Act of 1974. OFCCP has a Mega Construction Project Program through which it engages with project sponsors as early as the design phase to help promote compliance with non-discrimination and affirmative action obligations. OFCCP may identify construction projects that receive an award under this notice that have a project cost above $35 million to participate in OFCCP's Mega Construction Project Program. If selected and the applicant agrees to participate, OFCCP will ask selected project sponsors to make clear to prime contractors in the pre-bid phase that award terms may require their participation in the Mega Construction Project Program. Additional information on how OFCCP makes their selections for participation in the Mega Construction Project Program is outlined under “Scheduling” on the Department of Labor website: https://www.dol.gov/agencies/ofccp/faqs/construction-compliance. As authorized by section 25019 of the BIL, applicants are encouraged to implement a local or other geographical or economic hiring preference relating to the use of labor for construction of a project funded by the grant, including pre-hire agreements, subject to any applicable State and local laws, policies, and procedures.

g. Critical Infrastructure Security, Cybersecurity, and Resilience

It is the policy of the United States to strengthen the security and resilience of its critical infrastructure against all hazards, including physical and cyber risks, consistent with Presidential Policy Directive 21—Critical Infrastructure Security and Resilience, and the National Security Memorandum on Improving Cybersecurity for Critical Infrastructure Control Systems. Each applicant selected for Federal funding must demonstrate, prior to the signing of the grant agreement, effort to consider and address physical and cyber security risks relevant to the transportation mode and type and scale of the project. Projects that have not appropriately considered and addressed physical and cyber security and resilience in their planning, design, and project oversight, as determined by the Department and the Department of Homeland Security, will be required to do so before receiving funds. FTA implements this requirement as follows:

Pursuant to 49 U.S.C. 5323(v), a recipient that operates a rail fixed guideway public transportation system must certify that the recipient has established a process to develop, maintain, and execute a written plan for identifying and reducing cybersecurity risks. Recipients subject to this requirement must:

1. Utilize the approach described by the voluntary standards and best practices developed under section 2(c)(15) of the National Institute of Standards and Technology Act (15 U.S.C. 272(c)(15)), as applicable;

2. Identify hardware and software that the recipient determines should undergo third-party testing and analysis to mitigate cybersecurity risks, such as hardware or software for rail rolling stock under proposed procurements; and

3. Utilize the approach described in any voluntary standards and best practices for rail fixed guideway public transportation systems developed under the authority of the Secretary of Homeland Security, as applicable.

For information about standards or practices that may apply to a rail fixed guideway public transportation system, visit https://www.nist.gov/cyberframework and https://www.cisa.gov/.

TSA issued Security Directive 1582-21-01B, “Enhancing Public Transportation and Passenger Railroad Cybersecurity” on October 24, 2023. The Security Directive, which extends previous Security Directives, applies to all public passenger rail owners and operators identified in 49 CFR 1582.101, requires four critical actions:

1. Designate a cybersecurity coordinator who is required to be available to TSA and the DHS's CISA at all times (all hours/all days) to coordinate implementation of cybersecurity practices, and manage of security incidents, and serve as a principal point of contact with TSA and CISA for cybersecurity-related matters;

2. Report cybersecurity incidents to CISA;

3. Develop a Cybersecurity Incident Response Plan to reduce the risk of operational disruption should their Information and/or operational technology systems be affected by a cybersecurity incident; and

4. Conduct a cybersecurity vulnerability assessment using the form provided by TSA and submit the form to TSA. The vulnerability assessment will include an assessment of current practices and activities to address cyber risks to information and operational technology systems, identify gaps in current cybersecurity measures, and identify remediation measures and a plan for the owner/operator to implement the remediation measures to address any vulnerabilities and gaps.

Applicants subject to the Directive must certify compliance with the directive to receive the grant award.

In addition, TSA issued IC-2021-01, “Enhancing Surface Transportation Cybersecurity”, dated December 31, 2021, which applies to each passenger railroad, public transportation agency, or rail transit system owner/operator identified in 49 CFR 1582.1. This circular provides the same four recommendations for enhancing cybersecurity practices listed above. While this document is guidance and does not impose any mandatory requirements, TSA strongly recommends the adoption of the measures set forth in the circular.

Finally, on February 10, 2023, FTA published a Cybersecurity Assessment Tool for Transit (CATT) (https://www.transit.dot.gov/research-innovation/cybersecurity-assessment-tool-transit-catt). This tool was developed with the goal to onboard public transit organizations to develop and strengthen their cybersecurity program to identify risks and prioritize activities to mitigate these risks.

h. Planning

FTA encourages applicants to notify the appropriate State Departments of Transportation and MPOs in areas likely to be served by the project funds made available under these initiatives and programs. Selected projects must be incorporated into the long-range plans and transportation improvement programs of States and metropolitan areas before they are eligible for FTA funding. As described under the evaluation criteria, FTA will consider whether a project is consistent with or already included in these plans when evaluating a project.

i. Standard Assurances

The applicant assures that it will comply with all applicable Federal statutes, regulations, executive orders, directives, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

j. Performance and Program Evaluation

As a condition of grant award, grant recipients may be required to participate in an evaluation undertaken by DOT or another agency or partner. The evaluation may take different forms such as an implementation assessment across grant recipients, an impact and/or outcomes analysis of all or selected sites within or across grant recipients, or a benefit/cost analysis or assessment of return on investment. As a part of the evaluation, as a condition of award, grant recipients must agree to: (1) make records available to the evaluation contractor or DOT staff; (2) provide access to program records, and any other relevant documents to calculate costs and benefits; (3) in the case of an impact analysis, facilitate the access to relevant information as requested; and (4) follow evaluation procedures as specified by the evaluation contractor or DOT staff.

Recipients and subrecipients are also encouraged to incorporate program evaluation including associated data collection activities from the outset of their program design and implementation to meaningfully document and measure their progress towards meeting an agency priority goal(s). Title I of the Foundations for Evidence-Based Policymaking Act of 2018 (Evidence Act), Public Law 115-435, urges Federal awarding agencies and Federal assistance recipients and subrecipients to use program evaluation as a critical tool to learn, to improve equitable delivery, and to elevate program service and delivery across the program lifecycle. Evaluation means “an assessment using systematic data collection and analysis of one or more programs, policies, and organizations intended to assess their effectiveness and efficiency.” 5 U.S.C. 311. Credible program evaluation activities are implemented with relevance and utility, rigor, independence and objectivity, transparency, and ethics (OMB Circular A-11, part 6 section 290).

k. Project Signage and Public Acknowledgements

Recipients are encouraged for construction and non-construction projects to post project signage and to include public acknowledgments in published and other collateral materials (e.g., press releases, marketing materials, website, etc.) satisfactory in form and substance to DOT, that identifies the nature of the project and indicates that “the project is funded by the Bipartisan Infrastructure Law.” In addition, recipients employing project signage are required to use the official Investing in America emblem in accordance with the Official Investing in America Emblem Style Guide. Costs associated with signage and public acknowledgments must be reasonable and limited. Signs or public acknowledgments should not be produced, displayed, or published if doing so results in unreasonable cost, expense, or recipient burden. The Recipient is encouraged to use recycled or recovered materials when procuring signs.

3. Reporting

Post-award reporting requirements include the electronic submission of Federal Financial Reports and Milestone Progress Reports. Applicants should include goals, targets, and indicators referenced in their applications to the project in the Executive Summary of the TrAMS application. Recipients or beneficiaries of funds made available through this NOFO are also required to regularly submit data to the National Transit Database. National Transit Database reports include total sources of revenue and complete expenditure reports for all public transportation operations, not just those funded by this project. Applicants partnering with a private operator should ensure that the private operator will meet all the comprehensive reporting requirements of the National Transit Database.

FTA is committed to making evidence-based decisions guided by the best available science and data. In accordance with the Foundations for Evidence-based Policymaking Act of 2018, FTA may use information submitted in discretionary funding applications; information in FTA's Transit Award Management System (TrAMS), including grant applications, Milestone Progress Reports (MPRs), Federal Financial Reports (FFRs); transit service, ridership and operational data submitted in FTA's National Transit Database; documentation and results of FTA oversight reviews, including triennial and state management reviews; and other publicly available sources of data to build evidence to support policy, budget, operational, regulatory, and management processes and decisions affecting FTA's grant programs.

As part of completing the annual certifications and assurances required of FTA grant recipients, a successful applicant must report on the suspension or debarment status of itself and its principals. If the award recipient's active grants, cooperative agreements, and procurement contracts from all Federal awarding agencies exceeds $10,000,000 for any period of time during the period of performance of an award made pursuant to this Notice, the recipient must comply with the Recipient Integrity and Performance Matters reporting requirements described in appendix XII to 2 CFR part 200.

G. Federal Awarding Agency Contacts

For further information concerning this notice, please contact FTAFerryPrograms@dot.gov, or Vanessa Williams, by phone at (202)-366-4818 or Sarah Clements at (202) 366-3062. A TDD is available for individuals who are deaf or hard of hearing at 800-877-8339. In addition, FTA will post answers to questions and requests for clarifications on FTA's website at https://www.transit.dot.gov/grants/fta-ferry-programs. To ensure receipt of accurate information about eligibility or the program, the applicant is encouraged to contact FTA directly, rather than through intermediaries or third parties.

For issues with GRANTS.GOV, please contact GRANTS.GOV by phone at 1-800-518-4726 or by email at support@grants.gov. Contact information for FTA's regional offices can be found on FTA's website at https://www.transit.dot.gov/about/regional-offices/regional-offices.

H. Other Information

User-friendly information and resources regarding DOT's discretionary grant programs relevant to rural applicants can be found on the Rural Opportunities to Use Transportation for Economic Success (ROUTES) website at https://www.transportation.gov/rural.

This program is not subject to Executive Order 12372, “Intergovernmental Review of Federal Programs.” FTA will consider applications for funding only from eligible recipients for eligible projects listed in section C.

All information submitted as part of or in support of any application shall use publicly available data or data that can be made public and methodologies that are accepted by industry practice and standards, to the extent possible. If an applicant submits information the applicant considers to be a trade secret or confidential commercial or financial information, the applicant must provide that information in a separate document, which the applicant may reference from the application narrative or other portions of the application. For the separate document containing confidential information, the applicant must do the following: (1) state on the cover of that document that it “Contains Confidential Business Information (CBI);” (2) mark each page that contains confidential information with “CBI;” and (3) highlight or otherwise denote the confidential content on each page. If FTA receives a Freedom of Information Act (FOIA) request for information marked as confidential business, commercial or financial information, FTA will provide notice according to DOT's FOIA regulation at 49 CFR 7.29. Only information that is segregated and marked in accordance with this section will be considered for said exemption under FOIA.

Veronica Vanterpool,
Acting Administrator.

[FR Doc. 2024-07845 Filed 4-16-24; 8:45 am]

BILLING CODE 4910-57-P